DEPARTMENT OF ENERGY

Federal Energy Regulatory Commission

Combined Notice of Filings #1

Take notice that the Commission received the following electric rate filings:

Docket Numbers: ER10-2912-006.

Applicants: Alliance for Cooperative Energy Services Power Marketing LLC.

Description: Notice of Non-Material Change in Status of Alliance For Cooperative Energy Services Power Marketing LLC.

Filed Date: 1/9/18.

Accession Number: 20180109-5063.

Comments Due: 5 p.m. ET 1/30/18.

Docket Numbers: ER13-1667-002.

Applicants: Battery Utility of Ohio, LLC.

Description: Notice of Change in Status of Battery Utility of Ohio, LLC.

Filed Date: 1/8/18.

Accession Number: 20180108-5236.

Comments Due: 5 p.m. ET 1/29/18.

Docket Numbers: ER16-1610-003.

Applicants: V3 Commodities Group, LLC.

Description: Notice of Non-Material Change in Status of V3 Commodities Group, LLC.

Filed Date: 1/8/18.

Accession Number: 20180108-5238.

Comments Due: 5 p.m. ET 1/29/18.

Docket Numbers: ER18-614-001.

Applicants: PJM Interconnection, L.L.C.

Description: Tariff Amendment: Errata to Sch. 12—Appx A revisions submitted in Docket No. ER18-614 to be effective 4/5/2018.

Filed Date: 1/9/18.

Accession Number: 20180109-5102.

Comments Due: 5 p.m. ET 1/30/18.

Docket Numbers: ER18-620-000.

Applicants: ISO New England Inc., New England Power Pool Participants Committee.

Description: § 205(d) Rate Filing: Update to the Forward Capacity Market Dynamic De-List Bid Threshold to be effective 3/9/2018.

Filed Date: 1/8/18.

Accession Number: 20180108-5189.

Comments Due: 5 p.m. ET 1/29/18.

Docket Numbers: ER18-621-000.

Applicants: Battery Utility of Ohio, LLC.

Description: § 205(d) Rate Filing: Revised Market-Based Rate Tariff Filing to be effective 3/10/2018.

Filed Date: 1/8/18.

Accession Number: 20180108-5194.

Comments Due: 5 p.m. ET 1/29/18.

Docket Numbers: ER18-622-000.

Applicants: Midcontinent Independent System Operator, Inc.

Description: Compliance filing: 2018-01-08_Compliance to Order 831 Energy Offer Cap to be effective 11/1/2018.

Filed Date: 1/8/18.

Accession Number: 20180108-5195.

Comments Due: 5 p.m. ET 1/29/18.

Docket Numbers: ER18-623-000.

Applicants: GenOn Energy Management, LLC.

Description: Request for Limited Tariff Waiver, Expedited Action, a Shortened Comment Period and Confidential Treatment of GenOn Energy Management, LLC.

Filed Date: 1/8/18.

Accession Number: 20180108-5233.

Comments Due: 5 p.m. ET 1/19/18.

Docket Numbers: ER18-624-000.

Applicants: Woomera Energy, LLC.

Description: Baseline eTariff Filing: Woomera Energy Market Based Rate Tariff to be effective 1/10/2018.

Filed Date: 1/9/18.

Accession Number: 20180109-5060.

Comments Due: 5 p.m. ET 1/30/18.

Docket Numbers: ER18-625-000.

Applicants: PacifiCorp.

Description: § 205(d) Rate Filing: Avangrid NITSA Rev 3 (fka Iberdrola) to be effective 1/1/2018.

Filed Date: 1/9/18.

Accession Number: 20180109-5114.

Comments Due: 5 p.m. ET 1/30/18.

Docket Numbers: ER18-626-000.

Applicants: California Independent System Operator Corporation.

Description: § 205(d) Rate Filing: 2018-01-09 Expedited Interconnection Procedures Enhancements Amendment to be effective 3/11/2018.

Filed Date: 1/9/18.

Accession Number: 20180109-5144.

Comments Due: 5 p.m. ET 1/30/18.

Docket Numbers: ER18-627-000.

Applicants: NorthWestern Corporation.

Description: Tariff Cancellation: Notice of Cancellation: SA 775, Utilities Agreement with MDT (Manchester Proj.) to be effective 1/10/2018.

Filed Date: 1/9/18.

Accession Number: 20180109-5149.

Comments Due: 5 p.m. ET 1/30/18.

Docket Numbers: ER18-628-000.

Applicants: AEP Texas Inc.

Description: § 205(d) Rate Filing: AEPTX-Duke Energy Renewables Solar IA 1st Amend & Restated Cancellation to be effective 1/2/2018.

Filed Date: 1/9/18.

Accession Number: 20180109-5150.

Comments Due: 5 p.m. ET 1/30/18.

Docket Numbers: ER18-629-000.

Applicants: Southwestern Electric Power Company.

Description: § 205(d) Rate Filing: Bentonville POD #8: SWEPCO Phyllis St. to Substation J DPA to be effective 12/15/2017.

Filed Date: 1/9/18.

Accession Number: 20180109-5151.

Comments Due: 5 p.m. ET 1/30/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 9, 2018.
Kimberly D. Bose,
Secretary.

[FR Doc. 2018-00748 Filed 1-17-18; 8:45 am]

BILLING CODE 6717-01-P